DEPARTMENT OF ENERGY

Federal Energy Regulatory Commission

[Docket No. RP04-189-000]

Maritimes & Northeast Pipeline, L.L.C.; Notice of Tariff Filing

March 3, 2004.

Take notice that on February 27, 2004, Maritimes & Northeast Pipeline, L.L.C. (Maritimes) tendered for filing as part of its FERC Gas Tariff, First Revised Volume No. 1, Sheet Nos. 146-149, to become effective March 1, 2004.

Maritimes states that the purpose of this filing is to reflect in a new mailing address in Maritimes' FERC Gas Tariff, update the person responsible for receiving communications concerning the tariff, and correct a range of reserved tariff sheets.

Maritimes states that copies of this filing were mailed to all affected customers of Maritimes and interested State commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-481 Filed 3-8-04; 8:45 am]

BILLING CODE 6717-01-P